ENVIRONMENTAL PROTECTION AGENCY

[ER-FRL-9042-8]

Environmental Impact Statements; Notice of Availability

Responsible Agency: Office of Federal Activities, General Information 202-564-5632 or https://www.epa.gov/nepa/.

Weekly receipt of Environmental Impact Statements

Filed 12/03/2018 Through 12/07/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180307, Draft, USFS, OR, Black Mountain Vegetation Management Project, Comment Period Ends: 01/28/2019, Contact: Elysia Retzlaff 541-416-6436

EIS No. 20180308, Draft, USACE, CA, Whittier Narrows Dam Safety Modification Study, Comment Period Ends: 01/28/2019, Contact: Deborah Lamb 213-452 -3798

EIS No. 20180309, Draft, FHWA, IN, I69 Ohio River Crossing Project, Comment Period Ends: 02/08/2019, Contact: Michelle Allen 317-226-7344

EIS No. 20180310, Final, BLM, WY, Riley Ridge to Natrona, Review Period Ends: 01/14/2019, Contact: Mark Makiewicz 435-636-3616

EIS No. 20180311, Final, FAA, TX, ADOPTION—DART Cotton Belt Corridor Regional Rail Project, Contact: John MacFarlane 817-222-5681

The Federal Aviation Administration (FAA) has adopted the Federal Transit Administration's Final EIS No. 20180305, filed 11/30/2018 with the EPA. The FAA was a cooperating agency on this project. Therefore, recirculation of the document is not necessary under Section 1506.3(c) of the CEQ regulations.

Amended Notices

EIS No. 20180260, Draft Supplement, USFS, ND, Northern Great Plains Management Plans Revision (Dakota Prairie Oil and Gas RFDS SEIS), Comment Period Ends: 01/16/2019, Contact: Leslie Ferguson 701-989-7308, Revision to FR Notice Published 11/02/2018; Extending Comment Period from 12/17/2018 to 01/16/2019.

EIS No. 20180304, Draft, VA, CA, Draft Programmatic Environmental Impact Statement and National Historic Preservation Act Section 106 Consultation West Los Angeles Medical Center Campus Proposed Master Plan for Improvements and Reconfiguration, Comment Period Ends: 01/29/2019, Contact: Glenn Elliott 202-632-5879, Revision to FR Notice Published 12/07/2018; Extending the Comment Period from 01/21/2019 to 01/29/2019.

EIS No. 20180305, Final, FTA, TX, DART Cotton Belt Corridor Regional Rail Project, Contact: Melissa Foreman 817-978-0554

Revision to FR Notice Published 12/07/2018; as required by Public Law 114-94 and 23 U.S.C. 139(n)(2) and 49 U.S.C. 304a(b), the FTA and the FAA have issued a combined FEIS and Record of Decision. Therefore, there will be no 30-day review period for the FEIS prior to the issuance of a Record of Decision.

Dated: December 10, 2018.
Robert Tomiak,
Director, Office of Federal Activities.

[FR Doc. 2018-27072 Filed 12-13-18; 8:45 am]

BILLING CODE 6560-50-P